DEPARTMENT OF LABOR

Employment and Training Administration

[TA-W-65,616]

Tensolite d/b/a Carlisle Interconnect Company, Vancouver, WA; Notice of Termination of Investigation

Pursuant to Section 221 of the Trade Act of 1974, as amended, an investigation was initiated on March 16, 2009 in response to a petition filed on behalf of the workers at Tensolite, d/b/a Carlisle Interconnect Company, Vancouver, Washington.

The petitioners have requested that the petition be withdrawn. Consequently, the investigation has been terminated.

Signed at Washington, DC, this 28th day of April 2009.
Richard Church,
Certifying Officer, Division of Trade Adjustment Assistance.

[FR Doc. E9-11858 Filed 5-20-09; 8:45 am]

BILLING CODE 4510-FN-P